DEPARTMENT OF COMMERCE

National Oceanic and Atmospheric Administration

[I.D. 012907C]

New England Fishery Management Council; Public Meeting

AGENCY: National Marine Fisheries Service (NMFS), National Oceanic and Atmospheric Administration (NOAA), Commerce.

ACTION: Notice of cancellation of a public meeting.

SUMMARY: The New England Fishery Management Council has cancelled the public meeting of its Multispecies (Groundfish)Committee that was scheduled for Wednesday, February 21, 2007, at 9 a.m., at the Sheraton Ferncroft, 50 Ferncroft Road, Danvers, MA 01923.

FOR FURTHER INFORMATION CONTACT: Paul J. Howard, Executive Director, New England Fishery Management Council; telephone: (978) 465-0492.

SUPPLEMENTARY INFORMATION: The initial notice was published on February 2, 2007, 72 FR 5016, and the meeting will be rescheduled at a later date and announced in the Federal Register.

Dated: February 12, 2007.
James P. Burgess,
Acting Director, Office of Sustainable Fisheries, National Marine Fisheries Service.

[FR Doc. E7-2735 Filed 2-15-07; 8:45 am]

BILLING CODE 3510-22-S